DEPARTMENT OF TRANSPORTATION

Coast Guard

33 CFR Part 117

[CGD07-99-038]

RIN 2115-AE47

Drawbridge Operation Regulations: Lady's Island Bridge, Atlantic Intracoastal Waterway (AIWW), Beaufort, SC

AGENCY: Coast Guard, DOT.

ACTION: Final rule.

SUMMARY: The Coast Guard is adopting, with changes, the interim rule published in the Federal Register on July 20, 1999, governing the operation of the Lady's Island Bridge at Beaufort, South Carolina. This rule changes the operating requirements from a seasonal operating schedule to an annual schedule that coincides with daily traffic volume. This rule will accommodate the needs of roadway traffic and still provide for the reasonable needs of navigation.

DATES: This rule is effective July 1, 2002.

ADDRESSES: Comments and materials received from the public, as well as documents indicated in this preamble as being available in the docket, are part of docket [CGD07-99-38] and are available for inspection or copying at Commander (obr), Seventh Coast Guard District, 909 S.E. 1st Avenue, Room 432, Miami, Florida, 33131 between 7:30 a.m. and 4 p.m., Monday through Friday, except Federal holidays.

FOR FURTHER INFORMATION CONTACT: Mr. Barry Dragon, Project Officer, Seventh Coast Guard District, Bridge Branch, at (305) 415-6743.

SUPPLEMENTARY INFORMATION:

Regulatory Information

On July 20, 1999, the Coast Guard published an interim rule entitled, Drawbridge Operation Regulations, Atlantic Intracoastal Waterway SC in the Federal Register (64 FR 38829). The Coast Guard received 43 comments on the interim rule, although 12 of these were actually in response to the since-discontinued test period preceding the interim rule. A public hearing was not requested and one was not held.

Background and Purpose

The Lady's Island Bridge (also known as the Woods Memorial Bridge) over the Atlantic Intracoastal Waterway (Beaufort River), mile 536.0 at Beaufort, South Carolina, has a vertical clearance of 30 feet at mean high water and 37 feet at mean low water. Before August 23, 1999, the draw opened on signal, except that from 7 a.m. to 9 a.m. and from 4 p.m. to 6 p.m., Monday through Saturday the draw only had to open on the hour. During the months of April, May, June, September, October, and November, Monday through Friday from 9 a.m. to 4 p.m., the draw only had to open on the hour, twenty minutes after the hour, and forty minutes after the hour.

The City of Beaufort requested that the Coast Guard change the existing regulations by eliminating openings during morning and evening rush hours and limiting the openings to twice an hour between rush hours. The operating regulations for this bridge had not been changed since 1986 and vehicular traffic had increased. The new schedule allows individuals crossing the bridge to plan their transit times and avoid delays from bridge openings, while still meeting the reasonable needs of navigation.

Discussion of Comments and Changes

The Coast Guard has received 43 comments regarding the interim rule and the test period that preceded it. Thirty responses were in favor of the new schedule and 13 were against the new schedule. Of the 13 comments against the schedule, 12 comments responded to a three-month test period which provided that the bridge need not open from 7 a.m. until 9 a.m., Monday through Friday. These comments requested the schedule begin at 7:30 a.m. instead of 7 a.m. each weekday.

The interim rule addressed this issue by beginning the schedule at 7:30 a.m. Additional information since the implementation of the interim rule from the City of Beaufort and other commenters shows that changing the regulation to 7:30 a.m. rather than 7 a.m. has aggravated vehicle traffic flow because vessels accumulate at the bridge at 7:30 a.m. awaiting the last opening and the bridge opens longer to pass the vessels. By changing this final rule from 7:30 a.m. to 7 a.m., we hope to alleviate the vehicle traffic congestion that has occurred as a result of the longer bridge openings. The one commenter against the interim rule did not want the rush hour closures at all and wanted to change the schedule so the bridge would open on the hour and half-hour between 7 a.m. and 6 p.m. We have carefully considered these comments and believe the interim rule should be adopted with the following change, the morning weekday schedule should begin at 7 a.m. instead of 7:30 a.m.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this proposed rule to be so minimal that a full Regulatory Evaluation under paragraph 10e of the regulatory polices and procedures of DOT is unnecessary because the rule will meet the needs of navigation while easing the flow of vehicular traffic during peak traffic periods.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities because the rule will meet the needs of navigation while easing the flow of vehicular traffic during peak traffic periods with scheduled openings.

Assistance for Small Entities

Under section 213(a) of the Small Business Regulatory Enforcement Fairness Act of 1996 (Public Law 104-121), we offer to assist small entities in understanding this rule so that they can better evaluate its effects on them and participate in the rulemaking process. If the rule affects your small business, organization, or governmental jurisdiction and you have questions concerning its provisions or options for compliance, please contact the person listed under FOR FURTHER INFORMATION CONTACT for assistance in understanding this rule. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Environment

We considered the environmental impact of this action and concluded that, under figure 2-1, paragraph (32) (e) of Commandant Instruction M16475.1D, this rule is categorically excluded for further environmental documentation.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 117

Bridges.

For the reasons discussed in the preamble, the interim rule amending 33 CFR part 117 which was published at 64 FR 38829 on July 20, 1999, is adopted as a final rule with the following change:

PART 117—DRAWBRIDGE OPERATION REGULATIONS

1. The authority citation for part 117 continues to read as follows:

Authority: 33 U.S.C. 499; 49 CFR 1.46; 33 CFR 1.05-1(g); 33 CFR 117.255 also issued under authority of Pub. L. 102-587, 106 Stat. 5039.

2. Amend § 117.911 by revising paragraph (f) to read as follows:

§ 117.911 Atlantic Intracoastal Waterway, Little River to Savannah River.

* * * * *

(f) Lady's Island Bridge, across the Beaufort River, Mile 536.0 at Beaufort. The draw shall operate as follows:

(1) On Monday through Friday, except Federal holidays:

(i) From 7 a.m. to 9 a.m. and 4 p.m. to 6 p.m., the draw need not open; and,

(ii) Between 9 a.m. to 4 p.m., the draw need open only on the hour and half-hour.

(2) At all other times the draw shall open on signal.

Dated: April 30, 2002.
James S. Carmichael,
Rear Admiral, U.S. Coast Guard, Commander, Seventh Coast Guard District.

[FR Doc. 02-13511 Filed 5-29-02; 8:45 am]

BILLING CODE 4910-15-U